DEPARTMENT OF THE TREASURY

Office of the Comptroller of the Currency

[Docket No. 04-25]

FEDERAL RESERVE SYSTEM

[Docket No. OP-1218]

FEDERAL DEPOSIT INSURANCE CORPORATION

DEPARTMENT OF THE TREASURY

Office of Thrift Supervision

[No. 2004-57]

Shared National Credit Data Collection Modernization Extension of Comment Period

AGENCIES: Office of the Comptroller of the Currency, Treasury (OCC); Board of Governors of the Federal Reserve System (Board); the Federal Deposit Insurance Corporation (FDIC); and the Office of Thrift Supervision, Treasury (OTS) as an assisting agency.

ACTION: Request for comments; extension of comment period.

SUMMARY: On December 20, 2004, the federal banking agencies (Board, FDIC, OCC, and OTS, collectively referred to as “the Agencies”) published a proposal for public comment to standardize and expand the data collected from regulated institutions in order to improve the efficiency and effectiveness of Shared National Credit (SNC) examinations. By standardizing and expanding the collection of data, the Agencies will be able to use advanced credit risk analytics that will be beneficial to the reporting banks and the Agencies. The Agencies are extending the comment period to give the public additional time to submit comments on the proposal.

DATES: Comments must be received by April 7, 2005.

ADDRESSES: Because the Agencies will jointly review all of the comments submitted, interested parties may send comments to any one of the Agencies without the need to send comments (or copies) to all of the Agencies. Postal service in the Washington, DC area and at the Agencies is subject to delay, so please consider submitting your comments by e-mail or fax. Commenters are encouraged to use the title “SNC Program Modernization” to facilitate the organization and distribution of comments among the Agencies. Interested parties may submit comments to:

OCC: You should include OCC and Docket Number 04-25 in your comment. You may submit comments by any of the following methods:

Federal eRulemaking Portal: http://www.regulations.gov. Follow the instructions for submitting comments.

OCC Web Site: http://www.occ.treas.gov. Click on “Contact the OCC,” scroll down and click on “Comments on Proposed Regulations.”

E-mail address: regs.comments@occ.treas.gov.

Fax: (202) 874-4448.

Mail: Office of the Comptroller of the Currency, 250 E Street, SW., Mail Stop 1-5, Washington, DC 20219.

Hand Delivery/Courier: 250 E Street, SW., Attn: Public Information Room, Mail Stop 1-5, Washington, DC 20219.

Instructions: All submissions received must include the agency name (OCC) and docket number or Regulatory Information Number (RIN) for this notice of proposed rulemaking. In general, OCC will enter all comments received into the docket without change, including any business or personal information that you provide. You may review comments and other related materials by any of the following methods:

Viewing Comments Personally: You may personally inspect and photocopy comments at the OCC's Public Information Room, 250 E Street, SW., Washington, DC. You can make an appointment to inspect comments by calling (202) 874-5043.

Viewing Comments Electronically: You may request e-mail or CD-ROM copies of comments that the OCC has received by contacting the OCC's Public Information Room at regs.comments@occ.treas.gov.

Docket: You may also request available background documents and project summaries using the methods described above.

Board: You may submit comments, identified by Docket No. OP-1218 by any of the following methods:

Agency Web Site: http://www.federalreserve.gov. Follow the instructions for submitting comments at http://www.federalreserve.gov/generalinfo/foia/ProposedRegs.cfm.

Federal eRulemaking Portal: http://www.regulations.gov. Follow the instructions for submitting comments.

E-mail: regs.comments@federalreserve.gov. Include the docket number in the subject line of the message.

Fax: (202) 452-3819 or (202) 452-3102.

Mail: Jennifer J. Johnson, Secretary, Board of Governors of the Federal Reserve System, 20th Street and Constitution Avenue, NW., Washington, DC 20551.

All public comments are available from the Board's Web site at http://www.federalreserve.gov/generalinfo/foia/ProposedRegs.cfm as submitted, except as necessary for technical reasons. Accordingly, your comments will not be edited to remove any identifying or contact information. Public comments may also be viewed in electronic or paper form in Room MP-500 of the Board's Martin Building (20th and C Streets, NW.,) between 9 a.m. and 5 p.m. on weekdays.

FDIC: You may submit comments by any of the following methods:

Agency Web site: http://www.FDIC.gov/regulations/laws/federal/propose.html. Follow the instructions for submitting comments.

E-mail: comments@FDIC.gov.

Mail: Robert E. Feldman, Executive Secretary, Attention: Comments/Legal ESS, Federal Deposit Insurance Corporation, 550 17th Street, NW., Washington, DC 20429.

Hand Delivered/Courier: The guard station at the rear of the 550 17th Street Building (located on F Street), on business days between 7 a.m. and 5 p.m.

Public Inspection: Comments may be inspected and photocopied in the FDIC Public Information Center, Room 100, 801 17th Street, NW., Washington, DC, between 9 a.m. and 4:30 p.m. on business days.

Instructions: Comments received will be posted without change to http://www.FDIC.gov/regulations/laws/federal/propose.html, including any personal information provided.

OTS: You may submit comments, identified by No. 2004-57, by any of the following methods:

Federal eRulemaking Portal: http://www.regulations.gov. Follow the instructions for submitting comments.

E-mail address: regs.comments@ots.treas.gov. Please include No. 2004-57 in the subject line of the message and include your name and telephone number in the message.

Fax: (202) 906-6518.

Mail: Regulation Comments, Chief Counsel's Office, Office of Thrift Supervision, 1700 G Street, NW., Washington, DC 20552, Attention: No. 2004-57.

Hand Delivery/Courier: Guard's Desk, East Lobby Entrance, 1700 G Street, NW., from 9 a.m. to 4 p.m. on business days, Attention: Regulation Comments, Chief Counsel's Office, Attention: No. 2004-57.

Instructions: All submissions received must include the agency name and No. 2004-57 for this Request For Comment. All comments received will be posted without change to the OTS Internet Site at http://www.ots.treas.gov/pagehtml.cfm?catNumber=67&an=1, including any personal information provided.

Docket: For access to the docket to read background documents or comments received, go to http://www.ots.treas.gov/pagehtml.cfm?catNumber=67&an=1.

In addition, you may inspect comments at the Public Reading Room, 1700 G Street, N.W., by appointment. To make an appointment for access, call (202) 906-5922, send an e-mail to public.info@ots.treas.gov, or send a facsimile transmission to (202) 906-7755. (Prior notice identifying the materials you will be requesting will assist us in serving you.) We schedule appointments on business days between 10 a.m. and 4 p.m. In most cases, appointments will be available the next business day following the date we receive a request.

FOR FURTHER INFORMATION CONTACT: OCC: MaryAnn Nash, Counsel, Legislative and Regulatory Affairs Division (202) 874-5753; or Larry Winter, Director, Large Bank Supervision, 202-874-2715; or Kevin Satterfield, Public Reference Room Assistant, Communications Division, 202-874-4700.

Board: John T. Colwell, Senior Project Manager, Division of Bank Supervision and Regulation, (202) 728-5885. For users of Telecommunications Device for the Deaf (“TDD”) only, contact (202) 263-4869.

FDIC: William R. Baxter, Chief, Large Bank Section, Division of Supervision and Consumer Protection, (202) 898-8514 or wbaxter@fdic.gov; Cecilia L. Barry, Senior Financial Analyst, Large Bank Section, Division of Supervision and Consumer Protection, (202) 898-3506 or cbarry@fdic.gov; Rodney D. Ray, Counsel, Legal Division, (202) 898-3556 or rray@fdic.gov; or Leneta G. Gregorie, Counsel, Legal Division, (202) 898-3719 or lgregorie@fdic.gov.

OTS: David W. Tate, Manager, Examination Quality Review, (202) 906-5717.

SUPPLEMENTARY INFORMATION: On December 20, 2004, the Agencies sought comment on proposed changes to the data collection requirements for the Shared National Credit (SNC) program.¹ In that notice, the Agencies discussed their proposal to improve the efficiency and effectiveness of the SNC program by standardizing and expanding the data collected from regulated institutions. The comment period ended on February 15, 2005.

¹ See Shared National Credit Data Collection Modernization, 69 FR 76034 to 76041 (December 20, 2004).

The Agencies received several requests from interested parties for additional time in which to submit a comment on the proposal. As stated in the Notice, the Agencies intend to use feedback provided by commenters to assist us in determining the ultimate design of the expanded data collection process. The Agencies are extending the comment period to April 7, 2005 in order to maximize the opportunity for commenters to provide useful feedback.

Dated: February 9, 2005.
Julie L. Williams,
Acting Comptroller of the Currency.

By order of the Board of Governors of the Federal Reserve System, acting through the Director of the Division of Bank Supervision and Regulation under delegated authority, February 7, 2005.
Jennifer J. Johnson,
Secretary of the Board.

Dated at Washington, DC, this 9th day of February, 2005.
By order of the Federal Deposit Insurance Corporation.
Robert E. Feldman,
Executive Secretary.

Dated: February 8, 2005.
By the Office of Thrift Supervision.
James E. Gilleran,
Director.

[FR Doc. 05-2847 Filed 2-14-05; 8:45 am]

BILLING CODE 4810-33-P; 6210-01-P; 6714-01-P; 6720-01-P